DEPARTMENT OF THE INTERIOR

Bureau of Land Management

[AZ-110-1430-ES; AZA-33001]

Notice of Realty Action; Recreation and Public Purposes (R&PP) Act Classification; Arizona

AGENCY: Bureau of Land Management (BLM), Interior.

ACTION: Notice.

SUMMARY: The public lands listed below, located in Mohave County, Arizona, near the community of Littlefield have been examined and found suitable for classification for lease or conveyance to the Virgin River Domestic Wastewater Improvement District (VRDWID) under provisions of the R&PP Act for use as a wastewater treatment facility.

SUPPLEMENTARY INFORMATION: The following public lands near the community of Littlefield, Mohave County, Arizona, have been examined and found suitable for classification for lease or conveyance to the VRDWID under the provisions of the R&PP Act, as amended (43 U.S.C. 869 et seq.):

Gila and Salt River Meridian, Arizona

T. 40 N., R. 15 W., sec. 19, N½NW¼, SW¼NW¼, NW¼NW¼SW¼.

T. 40 N., R. 16 W., sec. 24, E½NE¼, SW¼NE¼, E½SW¼, SE¼.

(Including only those BLM administered lands between the southern right-of-way of Highway 91 and the top edge of the bluff overlooking the Virgin River.)

Containing 190 acres, more or less.

The lands are not needed for Federal purposes. Lease or conveyance is consistent with current BLM land use planning and would be in the public interest.

The lease/patent, when issued, will be subject to the following terms, conditions, and reservations:

1. Provisions of the R&PP Act and to all applicable regulations of the Secretary of the Interior.

2. A right-of-way for ditches and canals constructed by the authority of the United States.

3. All minerals shall be reserved to the United States, together with the right to prospect for, mine, and remove the minerals.

4. Valid existing rights.

5. Terms and conditions identified through the site-specific environmental analysis.

6. Those rights for power line and telephone line purposes granted to Dixie Escalante Electric under right-of-way AZA-36027 and Rio Virgin Telephone Company under rights-of-way AZAR-035969, AZA-30814, and AZA-17642.

7. The lessee/patentee by entering into the lease or accepting a patent, agrees to indemnify, defend, and hold the United States harmless from any costs, damages, claims, causes of action, penalties, fines, liabilities, and judgments of any kind or nature arising out of, or in connection with the lessee's/patentee's use, occupancy, or operations on the leased/patented real property.

This indemnification and hold harmless agreement includes, but is not limited to, acts or omissions of the lessee/patentee and its employees, agents, contractors, lessees, or any third-party, arising out of or in connection with the lessee's/patentee's use, occupancy, or operations on the leased/patented real property which cause or give rise to, in whole or in part: (1) Violations of Federal, State, and local laws and regulations that are now, or may in the future become, applicable to the real property and/or applicable to the use, occupancy, and/or operations thereon; (2) Judgments, claims, or demands of any kind assessed against the United States; (3) Costs, expenses, or damages of any kind incurred by the United States; (4) Releases or threatened releases of solid or hazardous waste(s) and/or hazardous substances(s), pollutant(s) or contaminant(s), and/or petroleum product or derivative of a petroleum product, as defined by Federal and State environmental laws; off, on, into, or under land, property, and other interests of the United States; (5) Other activities by which solid or hazardous substance(s) or waste(s), pollutant(s) or contaminant(s), or petroleum product or derivative of a petroleum product as defined by Federal and State environmental laws are generated, stored, used, or otherwise disposed of on the leased/patented real property, and any cleanup response, remedial action, or other actions related in any manner to the said solid or hazardous substance(s) or waste(s), pollutant(s) or contaminant(s), or petroleum product or derivative of a petroleum product; (6) Natural resources damages as defined by Federal and State laws. Lessee/patentee shall stipulate that it will be solely responsible for compliance with all applicable Federal, State, and local environmental laws and regulatory provisions, throughout the life of the facility, including any closure and/or post-closure requirements that may be imposed with respect to any physical plant and/or facility upon the real property under any Federal, State, or local environmental laws or regulatory provisions. In the case of a lease being issued, upon termination of the lease, lessee agrees to remove, at the request of BLM, any physical plant and/or facilities or improvements and restore the site to a condition acceptable to the BLM authorized officer. In the case of a patent being issued, this covenant shall be construed as running with the patented real property and may be enforced by the United States in a court of competent jurisdiction.

8. Any other rights or reservations that the authorized officer deems appropriate to ensure public access and proper management of the Federal lands and interest therein.

ADDRESSES: Detailed information concerning this action is available for review at the Office of the Bureau of Land Management, Arizona Strip District, 345 E. Riverside Drive, St. George, UT 84790.

DATES: Upon publication of this notice in the Federal Register, the lands will be segregated from all other forms of appropriation under the public land laws, including the general mining laws, except for lease or conveyance under the R&PP Act and leasing under the mineral leasing laws. For a period until February 13, 2006, interested persons may submit comments regarding the proposed lease/conveyance or classification of the lands to the District Manager, Arizona Strip District Office, 345 E. Riverside Drive, St. George, UT 84790.

Classification Comments: Interested parties may submit comments involving the suitability of the land for a wastewater treatment facility. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a wastewater treatment facility.

Any adverse comments will be reviewed by the State Director. In the absence of any adverse comments, the classification will become effective February 27, 2006.

Scott R. Florence,
District Manager.

[FR Doc. E5-8030 Filed 12-28-05; 8:45 am]

BILLING CODE 4310-32-P